DEPARTMENT OF THE TREASURY

Office of Foreign Assets Control

31 CFR Parts 538 and 560

Effectiveness of Licensing Procedures for Exportation of Agricultural Commodities, Medicine, and Medical Devices to Sudan and Iran; Comment Request

AGENCY: Office of Foreign Assets Control, Treasury.

ACTION: Request for comments.

SUMMARY: The Department of the Treasury's Office of Foreign Assets Control (OFAC) is soliciting comments on the effectiveness of OFAC's licensing procedures for the exportation of agricultural commodities, medicine, and medical devices to Sudan and Iran. Pursuant to section 906(c) of the Trade Sanctions Reform and Export Enhancement Act of 2000, OFAC is required to submit a biennial report to the Congress on the operation of licensing procedures for such exports.

DATES: Written comments should be received on or before April 23, 2018 to be assured of consideration.

ADDRESSES: You may submit comments by any of the following methods:

Federal eRulemaking Portal: www.regulations.gov. Follow the instructions for submitting comments.

Fax: Attn: Request for Comments (TSRA) (202) 622-0447.

Mail: Attn: Request for Comments (TSRA), Office of Foreign Assets Control, Department of the Treasury, Freedman's Bank Building, 1500 Pennsylvania Avenue NW, Washington, DC 20220.

FOR FURTHER INFORMATION CONTACT: Requests for additional information about these licensing procedures should be directed to Davin Blackborow, Assistant Director, Licensing Division, Office of Foreign Assets Control, Department of the Treasury, Freedman's Bank Building, 1500 Pennsylvania Avenue NW, Washington, DC 20220, telephone: (202) 622-2480. Additional information about these licensing procedures is also available at www.treasury.gov/tsra.

SUPPLEMENTARY INFORMATION: The current procedures used by OFAC pursuant to the Trade Sanctions Reform and Export Enhancement Act of 2000 (Title IX of Pub. L. 106-387, 22 U.S.C. 7201 et seq.) (the “Act”) for authorizing the export of agricultural commodities, medicine, and medical devices to Iran are set forth in 31 CFR 560.530 through 560.533. Effective October 12, 2017, sections 1 and 2 of Executive Order (E.O.) 13067 of November 3, 1997 and all of E.O. 13412 of October 13, 2006 were revoked, pursuant to E.O. 13761 of January 13, 2017, as amended by E.O. 13804 of July 11, 2017. As a result of the revocation of these sanctions provisions, effective October 12, 2017, U.S. persons are no longer prohibited from engaging in transactions that were previously prohibited under the Sudanese Sanctions Regulations, 31 CFR part 538. However, pursuant to the Act, an OFAC license is still required for exports and reexports to the Government of Sudan or any other entity in Sudan of agricultural commodities, medicine, and medical devices as a result of Sudan's inclusion on the State Sponsors of Terrorism List. These exports and reexports are generally licensed by OFAC. Under the provisions of section 906(c) of the Act, OFAC must submit a biennial report to the Congress on the operation, during the preceding two-year period, of the licensing procedures required by section 906 of the Act for the export of agricultural commodities, medicine, and medical devices to Sudan and Iran. This report is to include:

(1) The number and types of licenses applied for;

(2) The number and types of licenses approved;

(3) The average amount of time elapsed from the date of filing of a license application until the date of its approval;

(4) The extent to which the licensing procedures were effectively implemented; and

(5) A description of comments received from interested parties about the extent to which the licensing procedures were effective, after holding a public 30-day comment period.

This document solicits comments from interested parties regarding the effectiveness of OFAC's licensing procedures for the export of agricultural commodities, medicine, and medical devices to Sudan and Iran for the time period of October 1, 2014 to September 30, 2016. Interested parties submitting comments are asked to be as specific as possible. In the interest of accuracy and completeness, OFAC requires written comments. All comments received on or before April 23, 2018 will be considered by OFAC in developing the report to the Congress. Consideration of comments received after the end of the comment period cannot be assured.

All comments made will be a matter of public record. OFAC will not accept comments accompanied by a request that part or all of the comments be treated confidentially because of their business proprietary nature or for any other reason; OFAC will not consider them and will return such comments when submitted by regular mail to the person submitting the comments.

Copies of past biennial reports may be obtained from OFAC's website (www.treasury.gov/resource-center/sanctions/Programs/Pages/lic-agmed-index.aspx). Written requests may be sent to: Office of Foreign Assets Control, U.S. Department of the Treasury, Freedman's Bank Building, 1500 Pennsylvania Ave. NW, Washington, DC 20220, Attn: Assistant Director for Licensing.

Note 1: On December 23, 2016, OFAC published amendments to the Iranian Transactions and Sanctions Regulations, 31 CFR part 560, to expand the scope of medical devices and agricultural commodities generally authorized for export or reexport to Iran pursuant to the Act. This amendment also included new or expanded authorizations related to training, replacement parts, software, and services for the operation, maintenance, and repair of medical devices, and items that are broken or connected to product recalls or other safety concerns. Accordingly, specific licenses are no longer required for these transactions.

John E. Smith,
Director, Office of Foreign Assets Control.

[FR Doc. 2018-05638 Filed 3-21-18; 8:45 am]

BILLING CODE 4810-25-P